DEPARTMENT OF TRANSPORTATION

Surface Transportation Board

[STB Docket No. AB-1067 (Sub-No. 1X)]

Iowa Northwestern Railroad—Abandonment Exemption—in Osceola and Dickinson Counties, IA

On December 27, 2005, General Railway Corporation, d/b/a Iowa Northwestern Railroad (IANW) filed with the Board a petition under 49 U.S.C. 10502 for exemption from the provisions of 49 U.S.C. 10903 to abandon a line of railroad known as the Iowa Northwestern Railroad, extending from milepost 235.25 near Lake Park, IA, to the end of the line at milepost 252.3 near Allendorf, IA, a distance of 17.05 miles in Osceola and Dickinson Counties, IA (the line). The stations of Harris (MP 240.5), Ocheyedan (MP 246.0) and Allendorf (MP 251.8) are located on the line. The line traverses United States Postal Service Zip Codes 51249, 51347, 51345, and 51354.

The line does not contain federally granted rights-of-way. Any documentation in IANW's possession will be made available promptly to those requesting it.

IANW states that no railroad employees will be affected by this action. Nevertheless, to ensure that is the case, the interest of railroad employees will be protected by the conditions set forth in Oregon Short Line R. Co.—Abandonment—Goshen, 360 I.C.C. 91 (1979).

By issuance of this notice, the Board is instituting an exemption proceeding pursuant to 49 U.S.C. 10502(b). A final decision will be issued by April 14, 2006.

Any offer of financial assistance (OFA) under 49 CFR 1152.27(b)(2) will be due no later than 10 days after service of a decision granting the petition for exemption. Each OFA must be accompanied by a $1,200 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than February 2, 2006. Each trail use request must be accompanied by a $200 filing fee. See 49 CFR 1002.2(f)(27).

All filings in response to this notice must refer to STB Docket No. AB-1067 (Sub-No. 1X) and must be sent to: (1) Surface Transportation Board, 1925 K Street, NW., Washington, DC 20423-0001; and (2) John F. Larkin, General Railway Corp. d/b/a Iowa Northwestern Railroad, 4814 Douglas St., Omaha, NE 68132.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

An environmental assessment (EA) (or environmental impact statement (EIS), if necessary), prepared by SEA, will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: January 5, 2006.
By the Board, David M. Konschnik, Director, Office of Proceedings.
Vernon A. Williams,
Secretary.

[FR Doc. 06-234 Filed 1-12-06; 8:45 am]

BILLING CODE 4915-01-P